DEPARTMENT OF HEALTH AND HUMAN SERVICES

Centers for Disease Control and Prevention

[30Day-08-0006]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Statements in Support of Application for Waiver of Inadmissibility Under the Immigration and Nationality Act (OMB Control No. 0920-0006)—Extension—National Center for Preparedness, Control and Detection of Infectious Diseases (NCPDCID), Centers for Disease Control and Prevention (CDC).

Background and Brief Description

Section 212(a)(1) of the Immigration and Nationality Act states that aliens with specific health related conditions are ineligible for admission into the United States. The Attorney General may waive application of this inadmissibility on health-related grounds if an application for waiver is filed and approved by the consular office considering the application for visa. CDC uses this application primarily to collect information to establish and maintain records of waiver applicants in order to notify the U.S. Citizenship and Immigration Services when terms, conditions and controls imposed by waiver are not met. CDC is requesting approval from OMB to collect this data for another 3 years. CDC estimates that mailing costs per respondent will be $80.00 per year. The annualized burden for this data collection is 167 hours.

Estimate of Annualized Burden Hours
Form | Number of responses | Number of responses per respondent | Average burden per response (in hours)
Form CDC 4.422-1 | 200 | 1 | 10/60
Form CDC 4.422-1a | 200 | 1 | 20/60
Form CDC 4.422-1b | 200 | 1 | 20/60

Dated: September 22, 2008.
Marilyn S. Radke,
Reports Clearance Officer, Centers for Disease Control and Prevention.

[FR Doc. E8-22698 Filed 9-25-08; 8:45 am]

BILLING CODE 4163-18-P